DEPARTMENT OF COMMERCE

International Trade Administration

[C-570-913]

Certain New Pneumatic Off-The-Road Tires From the People's Republic of China: Rescission of the Countervailing Duty Administrative Review; 2013

AGENCY: Enforcement and Compliance, International Trade Administration, Department of Commerce.

SUMMARY: The Department of Commerce (the Department) is rescinding the administrative review of the countervailing duty (CVD) order on certain new pneumatic off-the-road (OTR) tires from the People's Republic of China (PRC) covering the period of review (POR) January 1, 2013, through December 31, 2013.

DATES: Effective Date: June 9, 2015.

FOR FURTHER INFORMATION CONTACT: Nicholas Czajkowski, AD/CVD Operations, Office VII, Enforcement and Compliance, International Trade Administration, U.S. Department of Commerce, 14th Street and Constitution Avenue NW., Washington, DC 20120; telephone (202) 482-1395.

SUPPLEMENTARY INFORMATION:

Background

On September 2, 2014, the Department published a notice of opportunity to request an administrative review of the CVD order of OTR Tires from the PRC.¹ On September 30, 2014, Guizhou Tyre Co., Ltd. (GTC) and its affiliate, Guizhou Tyre Import and Export Co., Ltd. (GTCIE), requested a review covering their exports of subject merchandise during the POR.² Pursuant to this request, on October 30, 2014, the Department initiated a review for GTC and GTCIE.³ On December 17, 2014, GTC and GTCIE timely withdrew their review request.⁴

¹ See Antidumping or Countervailing Duty Order, Finding, or Suspended Investigation; Opportunity To Request Administrative Review, 79 FR 51958 (September 2, 2014).

² See Letter to the Department, “Request for Administrative Review: Countervailing Duty Order on Certain New Pneumatic Off-The-Road Tires from the People's Republic of China (Case No: C-570-913) (POR: January 1, 2013-December 31, 2013),” dated September 30, 2014.

³ See Initiation of Antidumping and Countervailing Duty Administrative Reviews, 79 FR 64565 (October 30, 2014).

⁴ See Letter to the Department, “GTC Withdrawal of Request for Administrative Review: Sixth Administrative Review of Countervailing Duty Order on Certain New Pneumatic Off-The-Road Tires from the People's Republic of China (Case No: C-570-913) (POR: January 1, 2013-December 31, 2013),” dated December 17, 2014.

Rescission of Review

Pursuant to 19 CFR 351.213(d)(1), the Secretary will rescind an administrative review, in whole or in part, if a party who requested the review withdraws its request within 90 days of the day of publication of the notice of initiation of the requested review. The aforementioned request for review was timely withdrawn and because no other party requested a review of GTC and GTCIE, or any other producer/exporter of subject merchandise, in accordance with 19 CFR 351.213(d)(1), we are rescinding this review in its entirety.

Assessment Rates

The Department will instruct U.S. Customs and Border Protection (CBP) to assess CVD duties on all entries of OTR Tires from the PRC made during the POR at rates equal to the cash deposit of estimated CVD duties required at the time of entry, or withdrawal from the warehouse, for consumption, in accordance with 19 CFR 351.212(c)(1)(i). The Department intends to issue appropriate assessment instructions to CBP 15 days after the date of publication of this notice in the Federal Register.

Notifications

This notice serves as a final reminder to importers of their responsibility under 19 CFR 351.402(f)(2) to file a certificate regarding the reimbursement of CVD duties prior to liquidation of the relevant entries during this POR. Failure to comply with this requirement could result in the Secretary's presumption that reimbursement of the CVD duties occurred and the subsequent assessment of double CVD duties.

This notice also serves as a reminder to parties subject to an administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Tariff Act of 1930, as amended, and 19 CFR 351.213(d)(4).

Dated: May 29, 2015.
Christian Marsh,
Deputy Assistant Secretary for Antidumping and Countervailing Duty Operations.

[FR Doc. 2015-13830 Filed 6-8-15; 8:45 am]

BILLING CODE 3510-DS-P